DEPARTMENT OF THE INTERIOR

Bureau of Land Management

[AK-933-1430-ET; F-022962]

Notice of Conformance to Survey; Alaska

AGENCY: Bureau of Land Management, Interior.

ACTION: Notice.

SUMMARY: This Notice provides official publication of the surveyed description for the Newtok National Guard Site at Newtok, Alaska. The site was withdrawn for the Department of the Army by Public Land Order No. 2020, for use by the Alaska National Guard. The plat of survey was officially filed in the United States Department of the Interior, Bureau of Land Management, Washington, DC on September 1, 1964. United States Survey No. 4042, Lot 2, located within T. 10 N., R. 87 W., Seward Meridian, Alaska, containing 1.26 acres, represents the land that was previously described as follows:

A tract of land on the shore of Bering Sea north of Nelson Island, at approximate Latitude 60°56′ N., Longitude 164°37′ W., described as follows:

Beginning at the northeast corner of school building existing in 1958; thence N. 22° W. 700 feet to the point of beginning; thence S. 68° W., 250 feet; N. 22° W., 220 feet; N. 68° E., 250 feet; S. 22° E., 220 feet to the point of beginning.

The area as described contained approximately 1.26 acres.

ADDRESSES: Inquiries about this land should be sent to the Alaska State Office, Bureau of Land Management, 222 W. 7th Avenue, No. 13, Anchorage, Alaska 99513-7599.

FOR FURTHER INFORMATION CONTACT: Robbie J. Havens, BLM Alaska State Office, 907-271-5477.

Dated: February 25, 2002.
C. Michael Brown,
Acting Chief, Lands Branch, Division of Lands, Minerals, and Resources.

[FR Doc. 02-8886 Filed 4-11-02; 8:45 am]

BILLING CODE 4310-JA-P